DEPARTMENT OF COMMERCE

International Trade Administration

[A-533-86]

Welded Stainless Pressure Pipe From India: Affirmative Preliminary Determination of Sales at Less Than Fair Value and Postponement of Final Determination

AGENCY: Enforcement and Compliance, International Trade Administration, Department of Commerce.

SUMMARY: The Department of Commerce (“Department”) preliminarily determines that Welded Stainless Pressure Pipe from India (“WSPP”) is being, or is likely to be, sold in the United States at less than fair value (“LTFV”), as provided in section 733(b) of the Tariff Act of 1930, as amended (“the Act”). The period of investigation (“POI”) is July 1, 2014, through June 30, 2015. The estimated weighted-average dumping margins of sales at LTFV are shown in the “Preliminary Determination” section of this notice. Interested parties are invited to comment on this preliminary determination.

DATES: Effective Date: May 10, 2016.

FOR FURTHER INFORMATION CONTACT: James Terpstra, or Alex Rosen, AD/CVD Operations, Office III, Enforcement and Compliance, International Trade Administration, U.S. Department of Commerce, 14th Street and Constitution Avenue NW., Washington, DC 20230; telephone: (202) 482-3965, or (202) 482-7814, respectively.

SUPPLEMENTARY INFORMATION:

Background

The Department published the notice of initiation of this investigation on October 27, 2015.¹ For a complete description of the events that followed the initiation of this investigation, see the memorandum that is dated concurrently with this determination and hereby adopted by this notice.² A list of topics included in the Preliminary Decision Memorandum is included as Appendix II to this notice. The Preliminary Decision Memorandum is a public document and is on file electronically via Enforcement and Compliance's Antidumping and Countervailing Duty Centralized Electronic Service System (“ACCESS”). ACCESS is available to registered users at https://access.trade.gov, and to all parties in the Central Records Unit, room B8024 of the main Department of Commerce building. In addition, a complete version of the Preliminary Decision Memorandum can be found at http://enforcement.trade.gov/frn/. The signed Preliminary Decision Memorandum and the electronic version of the Preliminary Decision Memorandum are identical in content.

¹ See Welded Stainless Pressure Pipe from India: Initiation of Antidumping Duty Investigation, 80 FR 65696 (October 27, 2015) (“Initiation Notice”).

² See Memorandum from Christian Marsh, Deputy Assistant Secretary for Antidumping and Countervailing Duty Operations, to Paul Piquado, Assistant Secretary for Enforcement and Compliance, “Decision Memorandum for the Preliminary Determination in the Antidumping Duty Investigation of Welded Stainless Pressure Pipe from India” (“Preliminary Decision Memorandum”), dated concurrently with this notice.

As explained in the memorandum from the Acting Assistant Secretary for Enforcement and Compliance, the Department exercised its discretion to toll deadlines as a result of the closure of the Federal Government for Snowstorm Jonas.³ All deadlines in this segment of the proceeding have been extended by four business days. Furthermore, on March 3, 2016, based upon a request from Petitioners, the Department postponed the time period for the preliminary determination of this investigation by 40 days, to May 3, 2016, in accordance with section 733(c)(1)(B) of the Act and 19 CFR 351.205(f)(1).⁴

³ See Memorandum to the file from Ron Lorentzen, Acting Assistant Secretary for Enforcement and Compliance, “Tolling of Administrative Deadlines as a Result of the Government Closure during Snowstorm `Jonas,' ” dated January 27, 2016.

⁴ See Welded Stainless Pressure Pipe from India: Postponement of Preliminary Determination of Antidumping Duty Investigation, 81 FR 11179 (March 3, 2016).

Scope of the Investigation

The product covered by this investigation is circular welded austenitic stainless pressure pipe not greater than 14 inches in outside diameter, from India. For a full description of the scope of this investigation, see the “Scope of the Investigation,” in Appendix I.

Scope Comments

In accordance with the preamble to the Department's regulations,⁵ the Initiation Notice set aside a period of time for parties to raise issues regarding product coverage (i.e., “scope”).⁶ No party commented on the scope of the investigation as it appeared in the Initiation Notice, and the scope language is unchanged for this preliminary determination.

⁵ See Antidumping Duties; Countervailing Duties, 62 FR 27296, 27323 (May 19, 1997).

⁶ See Initiation Notice, 80 FR at 65696.

Methodology

The Department is conducting this investigation in accordance with section 731 of the Act. For the two mandatory respondents Steamline Industries Ltd (“Steamline”) and Sunrise Stainless Pvt. Ltd (“Sunrise”), we calculated export price (EP) and constructed export price (“CEP”) in accordance with section 772 of the Act, and normal value (“NV”) in accordance with section 773 of the Act. For a full description of the methodology underlying our conclusions, see the Preliminary Decision Memorandum.

All-Others Rate

Section 735(c)(5)(A) of the Act provides that the estimated all-others rate shall be an amount equal to the weighted average of the estimated weighted-average dumping margins established for exporters and producers individually investigated, excluding any zero or de minimis margins, and any margins determined entirely under section 776 of the Act. Because we calculated a de minimis weighted-average dumping margin for Sunrise Stainless Pvt. Ltd. (“Sunrise”), we based the all-others rate on the margin calculated for Steamline Industries Ltd. (“Steamline”), the other mandatory respondent in this investigation.

Preliminary Determination

The Department preliminarily determines that the following estimated weighted-average dumping margins exist:

Exporter/producer | Weighted- average margin (percent)
Steamline Industries Ltd. | 18.90
Sunrise Stainless Pvt. Ltd. and Sun Mark Stainless Pvt. Ltd. (collectively, “Sunrise”) ⁷ | *1.91
All Others | 18.90
* (de minimis)

Suspension of Liquidation

In accordance with section 733(d)(2) of the Act, we will direct U.S. Customs and Border Protection (CBP) to suspend liquidation of all entries of WSPP from India, with the exception of exports from Sunrise, as described in the scope of the investigation section entered, or withdrawn from warehouse, for consumption on or after the date of publication of this notice in the Federal Register. Pursuant to 19 CFR 351.205(d), we will instruct CBP to require a cash deposit equal to the weighted-average amount by which the NV exceeds CEP, as indicated in the chart above ⁸ adjusted where appropriate for export subsidies, as follows: the rate for Steamline, when adjusted for export subsidies, is 16.90 percent; the rate for all others producers or exporters, when adjusted for export subsidies, is also 16.90 percent. These suspension of liquidation instructions will remain in effect until further notice.

⁷ We have preliminarily determined to collapse Sunrise with its affiliate Sun Mark Stainless Pvt, Ltd. (collectively, “Sunrise”). See Memorandum to Brendan Quinn, Acting Director, Office III, “Antidumping Duty Investigation on Welded Stainless Pressure Pipe from India: Preliminary Affiliation and Collapsing Memorandum for Sunrise Stainless Private Limited” dated concurrently with this notice.

⁸ See Modification of Regulations Regarding the Practice of Accepting Bonds During the Provisional Measures Period in Antidumping and Countervailing Duty Investigations, 76 FR 61042 (October 3, 2011).

Disclosure and Public Comment

We will disclose the calculations performed to interested parties in this proceeding within five days of the date of publication of this notice in accordance with 19 CFR 351.224(b). Interested parties are invited to comment on this preliminary determination. Case briefs or other written comments may be submitted to the Assistant Secretary for Enforcement and Compliance no later than seven days after the date on which the final verification report is issued in this proceeding, and rebuttal briefs, limited to issues raised in case briefs, may be submitted no later than five days after the deadline date for case briefs.⁹ Pursuant to 19 CFR 351.309(c)(2) and (d)(2), parties who submit case briefs or rebuttal briefs in this proceeding are encouraged to submit with each argument: (1) A statement of the issue; (2) a brief summary of the argument; and (3) a table of authorities.

⁹ See 19 CFR 351.309.

Pursuant to 19 CFR 351.310(c), interested parties who wish to request a hearing must submit a written request to the Assistant Secretary for Enforcement and Compliance, U.S. Department of Commerce. All documents must be filed electronically using ACCESS. An electronically-filed request must be received successfully in its entirety by ACCESS by 5:00 p.m. Eastern Time, within 30 days after the date of publication of this notice.¹⁰ Requests should contain the party's name, address, and telephone number, the number of participants, and a list of the issues to be discussed. If a request for a hearing is made, the Department intends to hold the hearing at the U.S. Department of Commerce, 14th Street and Constitution Avenue NW., Washington, DC 20230, at a time and date to be determined. Parties should confirm by telephone the date, time, and location of the hearing two days before the scheduled date.

¹⁰ See 19 CFR 351.310(c).

Verification

As provided in section 782(i) of the Act, we intend to verify information relied upon in making our final determination.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by Petitioners. 19 CFR 351.210(e)(2) requires that requests by respondents for postponement of a final antidumping determination be accompanied by a request for extension of provisional measures from a four-month period to a period not more than six months in duration.

On April 28, 2016, pursuant to 19 CFR 351.210(b) and (e), Sunrise requested that, contingent upon an affirmative preliminary determination of sales at LTFV, the Department postpone the final determination and that provisional measures be extended to a period not to exceed six months.¹¹

¹¹ See Letter to the Secretary of Commerce from Sunrise “Extension Request for Final Determination” (April 28, 2016).

In accordance with section 735(a)(2)(A) of the Act and 19 CFR 351.210(b)(2)(ii), because (1) our preliminary determination is affirmative; (2) the requesting exporter accounts for a significant proportion of exports of the subject merchandise; and (3) no compelling reasons for denial exist, we are postponing the final determination and extending the provisional measures from a four-month period to a period not greater than six months. Accordingly, we will make our final determination no later than 135 days after the date of publication of this preliminary determination, pursuant to section 735(a)(2) of the Act.¹²

¹² See also 19 CFR 351.210(e).

International Trade Commission (“ITC”) Notification

In accordance with section 733(f) of the Act, we will notify the ITC of our preliminary affirmative determination of sales at LTFV. Because the preliminary determination in this proceeding is affirmative, section 735(b)(2) of the Act requires that the ITC make its final determination whether the domestic industry in the United States is materially injured, or threatened with material injury, by reason of imports of WSPP from India before the later of 120 days after the date of this preliminary determination or 45 days after our final determination.

This determination is issued and published in accordance with sections 733(f) and 777(i)(1) of the Act and 19 CFR 351.205(c).

Dated: May 3, 2016.
Paul Piquado,
Assistant Secretary for Enforcement and Compliance.

Appendix I

Scope of the Investigation

The merchandise covered by this investigation is circular welded austenitic stainless pressure pipe not greater than 14 inches in outside diameter. References to size are in nominal inches and include all products within tolerances allowed by pipe specifications. This merchandise includes, but is not limited to, the American Society for Testing and Materials (“ASTM”) A-312 or ASTM A-778 specifications, or comparable domestic or foreign specifications. ASTM A-358 products are only included when they are produced to meet ASTM A-312 or ASTM A-778 specifications, or comparable domestic or foreign specifications.

Excluded from the scope of the investigation are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A-269, ASTM A-270 or comparable domestic or foreign specifications.

The subject imports are normally classified in subheadings 7306.40.5005, 7306.40.5040, 7306.40.5062, 7306.40.5064, and 7306.40.5085 of the Harmonized Tariff Schedule of the United States (“HTSUS”). They may also enter under HTSUS subheadings 7306.40.1010, 7306.40.1015, 7306.40.5042, 7306.40.5044, 7306.40.5080, and 7306.40.5090. The HTSUS subheadings are provided for convenience and customs purposes only; the written description of the scope of this investigation is dispositive.

Appendix II

List of Topics Discussed in the Preliminary Decision Memorandum

I. Summary

II. Background

III. Period of Investigation

IV. Affiliation and Collapsing

V. Postponement of Final Determination and Extension of Provisional Measures

VI. Scope of the Investigation

VII. Discussion of Methodology

A. Determination of Comparison Method

B. Results of the Differential Pricing Analysis

VIII. Date of Sale

IX. Product Comparisons

X. Export Price and Constructed Export Price

XI. Normal Value

A. Comparison Market Viability

B. Affiliated-Party Transactions and Arm's-Length Test

C. Level of Trade

D. Cost of Production Analysis

1. Calculation of Cost of Production

2. Test of Comparison Market Sale Prices

3. Results of the COP Test

E. Calculation of NV Based on Comparison Market Prices

XII. Currency Conversion

XIII. Adjustment to Cash Deposit Rates

XIV. U.S. ITC Notification

XV. Disclosure and Public Comment

XVI. Verification

XVII. Conclusion

[FR Doc. 2016-11034 Filed 5-9-16; 8:45 am]

BILLING CODE 3510-DS-P